FEDERAL COMMUNICATIONS COMMISSION

47 CFR Part 73

[DA 03-608, MB Docket No. 01-116, RM-10069]

Digital Television Broadcast Service and Television Broadcast Service; Hibbing, MN

AGENCY: Federal Communications Commission.

ACTION: Final rule.

SUMMARY: The Commission, at the request of Duluth-Superior Area Educational Television Corporation, substitutes DTV channel *31 for channel *18 at Hibbing, Minnesota. See 66 FR 32296, June 14, 2001. DTV channel *31 can be allotted to Hibbing, Minnesota, in compliance with sections 73.622(a) and 73.623(c) of the Commission's criteria as set forth in the Public Notice, released November 22, 1999, DA 99-2605 at coordinates 47-22-53 N. and 92-57-15 W. with a power of 500, a height above average terrain HAAT of 212 meters with DTV service population of 117 thousand. Since the community of Hibbing is located within 400 kilometers of the U.S.-Canadian border, concurrence from the Canadian government has been obtained for this allotment. With this action, this proceeding is terminated.

DATES: Effective April 21, 2003.

FOR FURTHER INFORMATION CONTACT: Pam Blumenthal, Media Bureau, (202) 418-1600.

SUPPLEMENTARY INFORMATION: This is a synopsis of the Commission's Report and Order, MB Docket No. 01-116, adopted February 27, 2003, and released March 6, 2003. The full text of this document is available for public inspection and copying during regular business hours in the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Television broadcasting.

Part 73 of title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under Minnesota, is amended by removing TV channel *18-at Hibbing.

Authority: 47 U.S.C. 154, 303, 334 and 336.

§ 73.622 [Amended]

3. Section 73.622(b), the Table of Digital Television Allotments under Minnesota, is amended by adding DTV channel *31 at Hibbing.

Federal Communications Commission.
Barbara A. Kreisman,
Chief, Video Division, Media Bureau.

[FR Doc. 03-6237 Filed 3-14-03; 8:45 am]

BILLING CODE 6712-01-P